DEPARTMENT OF THE TREASURY

Submission for OMB Review; Comment Request

November 30, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 5, 2007 to be assured of consideration.

Internal Revenue Service (IRS)

OMB Number: 1545-2023.

Type of Review: Extension.

Title: Revenue Procedure 97-33, EFTPS (Electronic Federal Tax Payment System).

Description: Service will contact those taxpayers who file paper income tax returns to determine if these taxpayers should have filed electronic returns under the Mandate, Treasury Regulation Section 301.6011-5T.

Respondents: Businesses, farms, and not-for-profit institutions.

Estimated Total Burden Hours: 2,080 hours.

OMB Number: 1545-0946.

Type of Review: Extension.

Title: Application for Renewal of Enrollment To Practice Before the Internal Revenue Service.

Form: 8554.

Description: This information relates to the approval of continuing professional education programs and the renewal of the enrollment status for those individuals admitted (enrolled) by the Internal Revenue Service.

Respondents: Individuals or households.

Estimated Total Burden Hours: 47,400 hours.

OMB Number: 1545-0951.

Title: Form 5434, Application for Enrollment; and Form 5434-A, Application for Renewal of Enrollment.

Type of Review: Extension.

Form: 5434, 5434-A.

Description: The information relates to the granting of enrollment status to actuaries admitted (licensed) by the Joint Board for the Enrollment of Actuaries to perform actuarial services under the Employee Retirement Income Security Act of 1974.

Respondents: Individuals or households.

Estimated Total Burden Hours: 3,800 hours.

OMB Number: 1545-2026.

Title: Tribal Evaluation of Filing and Accuracy Compliance (TEFAC)—Compliance Check Report.

Form: 13797.

Type of Review: Extension.

Description: This form will be provided to tribes who elect to perform a self compliance check on any or all of their entities. This is a Voluntary program and the entry is not penalized for non-completion of forms and withdrawal from the program. Upon completion, the information will be used by the Tribe and ITG to develop training needs, compliance strategies, and corrective actions.

Respondents: Tribal Governments.

Estimated Total Burden Hours: 447 hours.

OMB Number: 1545-2024.

Title: This form is used by taxpayers for completing a claim against the United States for the proceeds of an Internal Revenue refund check.

Type of Review: Extension.

Description: This form is used by employers to request an extension of time to file the employee plan annual information return/report (Form 5500 series) or employee plan excise tax return (Form 5330). The data supplied on Form 5558 is used to determine if such extension of time is warranted.

Respondents: Individuals or households.

Estimated Total Burden Hours: 4,000 hours.

OMB Number: 1545-1034.

Title: Passive Activity Credit Limitations.

Type of Review: Extension.

Form: 8582-CR.

Description: Under section 469, credits from passive activities, to the extent they do not exceed the tax attributable to net passive income, are not allowed. Form 8582-CR is used to figure the passive activity credit allowed and the amount of credit to be reported on the tax return.

Respondents: Individuals or households.

Estimated Total Burden Hours: 2,370,600 hours.

OMB Number: 1545-1855.

Title: Limitation on Use of the Nonaccrual-Experience Method of Accounting Under Section 448(d)(5).

Type of Review: Extension.

Description: The regulations provide four safe harbor nonaccrual-experience methods that will be presumed to clearly reflect a taxpayer's nonaccrual experience, and for taxpayers who wish to compute their nonaccrual experience using a computation or formula other than the one of the four safe harbors provided, the requirements that must be met in order to use an alternative computation or formula to compute their nonaccrual experience.

Respondents: Businesses and other for-profit institutions.

Estimated Total Burden Hours: 24,000 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Robert Dahl,
Treasury PRA Clearance Officer.

[FR Doc. E6-20660 Filed 12-5-06; 8:45 am]

BILLING CODE 4830-01-P